NATIONAL SCIENCE FOUNDATION

Agency Information Collection Activities: Comment Request

AGENCY: National Science Foundation.

ACTION: Submission for OMB review; Comment request.

SUMMARY: The Reports Clearance Officer invites comments on the proposed information collection requests as required by the Paperwork Reduction Act of 1995. The National Science Foundation (NSF) is inviting the general public and other Federal agencies to comment on this proposed new information collection. This is the second notice for public comment; the first was published in the Federal Register at 65 FR 40143-40144 on June 29, 2000 and no comments were received. NSF will forward the proposed submission to OMB for clearance simultaneous with the publication of this second notice.

DATES: The Office of Management and Budget (OMB) should receive written comments on or before October 10, 2000.

ADDRESSES: Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs, Attention: Desk Officer: National Science Foundation, Office of Management and Budget; 725 17th Street, NW., Room 10235, New Executive Office Building, Washington, DC 20503. Requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton, (703) 292-7556, or send e-mail to splimpto@nsf.gov. You may also obtain a copy of the data collection plans and instruments from Ms. Suzanne Plimpton, NSF's Reports Clearance Officer, National Science Foundation, 4201 Wilson Blvd., Rm. 295, Arlington, VA 2230, phone (703) 292-7556. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

Type of Review: New.

Title: Generic Survey Clearance of the Science Resources Studies Survey Improvement Projects and Quick Response Studies.

Abstract: The National Science Foundation's (NSF) Division of Science Resources Studies (SRS) needs to collect timely data on constant changes in the science and technology sector and to provide the information to policy makers in Congress and throughout the Government. SRS will sponsor quick response studies and focus groups on science and technology subjects, perform cognitive testing to improve survey methodology and questionnaires, and pretest questions for future surveys.

Expected Respondents: Respondents will be from industry, academia, nonprofit organizations, members of the public, and Federal agencies. Data and information collection will be by mail, Internet, World Wide Web, telephone, visits, and/or focus groups. As the table below shows, as many as 330 institutions will be contacted. No institution will be contacted more than twice in one year. In addition, 40 members of the public may be contacted for a study of public attitudes toward science.

Information from the respondents is needed to provide policy-makers with updates of the economic, financial, employment, and education situation in the science and technology sector of industry, academia, and nonprofit organizations. The information will also help NSF improve its current data collection instruments and processes.

To minimize burden on small entities and to make sure that a high proportion of the science and technology universe is captured, most respondent selection will be designed with probability proportional to size. It is possible that during the 3 years of the survey clearance, NSF will study an issue that focuses on small entities, such as start-up high-technology companies. In this case, every effort will be made to use technology to limit the burden on respondents from small entities.

Information being collected is not considered to be sensitive. The contact letter and/or survey instrument will clearly indicate participation is voluntary and confidential.

Expected Burden:

1. Surveys of institutions | Number of institutions | Hours
Cognitive testing—Survey of Scientific & Engineering Research Facilities | 50 | 100
Cognitive testing—Survey of R&D Funding & Performance by Nonprofit Organizations | 30 | 60
Additional studies not specified | 250 | 6,000
Total Institutions | 330 | 6,160

2. Survey of persons | Number of members of the public (respondents) | Hours
Cognitive testing—Survey of Public Attitudes Toward and Understanding of Science & Technology | 40 | 80
Grand Total Institutions and Members of the Public | 370 | 6,240

Frequency: Respondents in the 3 identified studies will be contacted once per year. To meet the needs of policy-makers some respondents in the quick response studies may be contacted twice in one year.

Affected Public: Industry, academia, nonprofit organizations, members of the public, and Federal agencies.

Dated: September 5, 2000.
Suzanne H. Plimpton,
Reports Clearance Officer, National Science Foundation.

[FR Doc. 00-23135 Filed 9-7-00; 8:45 am]

BILLING CODE 7555-01-M